DEPARTMENT OF THE INTERIOR

Bureau of Land Management

[CO-100-1610-DP]

Notice of Availability of the Additional Air Quality Impact Assessment To Support the Little Snake Draft Resource Management Plan and Environmental Impact Statement (RMP/EIS), Moffat and Routt Counties, CO

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared an Additional Air Quality Impact Assessment to Support the Draft Resource Management Plan Draft Environmental Impact Statement (DRMP/DEIS) for the Little Snake Field Office and by this notice is announcing the opening of the comment period.

DATES: To assure that they will be considered, BLM must receive written comments on the Additional Air Quality Impact Assessment within 45 days following the date the Environmental Protection Agency (EPA) publishes their Notice of Availability (NOA) in the Federal Register. Additional announcements are being made through local media by news releases and information will be posted on the Little Snake RMP Web site: http://www.co.blm.gov/lsra/rmp.

ADDRESSES: You may submit comments by any of the following methods:

• E-mail: colsrmp@blm.gov.

• Fax: (970) 826-5002.

• Mail: Jeremy Casterson,BLM—Little Snake Field Office,455 Emerson St.,Craig, CO 81625.

Copies of the Additional Air Quality Impact Assessment are available at the Little Snake Field Office at the above address. Copies will also be posted on the Internet at http://www.blm.gov/co/st/en/fo/lsfo/plans/rmp_revision/rmp_docs.html.

FOR FURTHER INFORMATION CONTACT: Jeremy Casterson, Planning and Environmental Coordinator, BLM—Little Snake Field Office, 455 Emerson St., Craig, CO 81625. Phone: (970) 826-5071. E-mail: Jeremy_Casterson@blm.gov.

SUPPLEMENTARY INFORMATION: The planning area is located in Northwest Colorado in Moffat, Routt, and Rio Blanco Counties. The plan will provide a framework to guide subsequent management decisions on approximately 1.3 million acres of BLM-administered public lands and 1.1 million acres of subsurface mineral estate administered by the BLM. The Little Snake Field Office is currently being managing under its 1989 RMP, which has been amended for Oil and Gas Leasing (1991), Black-Footed Ferret Reintroduction (1996) and Land Health Standards (1997).

On May 16, 2007, the public comment period on the Little Snake DRMP/DEIS ended. During the public comment period, the EPA, in consultation with BLM, identified areas where additional air quality information would improve the existing analysis in the DEIS.

As a result, the BLM has prepared an additional air quality analysis to inform the public and allow public comment on the data and conclusions. BLM will only accept comments from the public pertaining to the new air quality information. Comments that are substantive and in relation to the material contained in the Additional Air Quality Impact Assessment will be responded to in the Final EIS if received within the 45 days after the NOA is published in the Federal Register.

Please note that public comments and information submitted regarding the Additional Air Quality Impact Assessment, including names, street addresses, and e-mail addresses of the respondents, will be available for public review and disclosure at the above address during regular business hours (7:45 a.m. to 4:30 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Sally Wisely,
State Director, Colorado.

[FR Doc. E8-23952 Filed 10-9-08; 8:45 am]

BILLING CODE 4310-JB-P